FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 009831-022.

Title: New Zealand/United States Container Lines Association.

Parties: P&O Nedlloyd Limited, Hamburg-Sud, Australia-New Zealand Direct Line, and Lykes Lines Limited LLC.

Filing Party: Wayne R. Rohde, Esq., Sher & Blackwell LLP, 1850 M Street, NW., Suite 900, Washington, DC 20036.

Synopsis: The amendment changes Lykes' name to CP Ships USA LLC.

Agreement No.: 010050-015.

Title: U.S. Flag Discussion Agreement.

Parties: American President Lines, Ltd.; A.P. Moller-Maersk A/S; Lykes Lines Limited, LLC; P&O Nedlloyd Limited; and Farrell Lines Incorporated.

Filing Party: Wayne R. Rohde, Esq., Sher & Blackwell LLP, 1850 M Street, NW., Suite 900, Washington, DC 20036.

Synopsis: The amendment changes Lykes' name to CP Ships USA, LLC.

Agreement No.: 011117-036.

Title: United States/Australasia Discussion Agreement.

Parties: A.P. Moller-Maersk A/S; Australia-New Zealand Direct Line; CMA CGM, S.A.; Compagnie Maritime Marfret, S.A.; Fesco Ocean Management Limited; Hamburg-Süd; Lykes Lines Limited, LLC; P&O Nedlloyd Limited; Safmarine Container Lines NV; and Wallenius Wilhelmsen Lines AS.

Filing Party: Wayne R. Rohde, Esq., Sher & Blackwell, 1850 M Street, NW., Suite 900, Washington, DC 20036.

Synopsis: The amendment changes the name of Lykes Lines Limited, LLC to CP Ships USA, LLC.

Agreement No.: 011268-017.

Title: New Zealand/United States Discussion Agreement.

Parties: New Zealand/United States Container Lines

Association; P&O Nedlloyd Limited; Hamburg-Süd; LauritzenCool AB; Australia-New Zealand Direct Line; FESCO Ocean Management Ltd., A.P. Moller-Maersk A/S; and Lykes Lines Limited, LLC.

Filing Party: Wayne R. Rohde, Esq., Sher & Blackwell, LLP, 1850 M Street, NW., Suite 900, Washington, DC 20036.

Synopsis: The amendment changes the name of Lykes Lines Limited, LLC to CP Ships USA, LLC.

Agreement No.: 011275-017.

Title: Australia/United States Discussion Agreement

Parties: A.P. Moller-Maersk A/S; Australia-New Zealand Direct Line; FESCO Ocean Management Inc.; Hamburg-Süd; LauritzenCool AB; Lykes Lines Limited, LLC; P&O Nedlloyd Limited; Safmarine Container Lines NV; and Seatrade Group NV.

Filing Party: Wayne R. Rohde, Esq., Sher & Blackwell, 1850 M Street, NW., Suite 900, Washington, DC 20036.

Synopsis: The amendment changes the name of Lykes Lines Limited, LLC to CP Ships USA, LLC.

Agreement No.: 011384-004.

Title: M.O.S.K./HUAL Space Charter Agreement.

Parties: HUAL AS and Mitsui O.S.K. Lines Ltd.

Filing Party: Wayne R. Rohde, Esq., Sher & Blackwell, 1850 M Street, NW., Suite 900, Washington, DC 20036.

Synopsis: The amendment changes the name of HUAL to Hoegh Autoliners AS and restates the agreement to reflect the name change throughout the agreement.

Agreement No.: 011407-008.

Title: Australia/United States Containerline Association.

Parties: Hamburg-Süd; P&O Nedlloyd Limited, Australia-New Zealand Direct Line, and Lykes Lines Limited, LLC.

Filing Party: Wayne R. Rohde, Esq., Sher & Blackwell, LLP, 1850 M Street, NW., Suite 900, Washington, DC 20036.

Synopsis: The amendment changes the name of Lykes Lines Limited, LLC to CP Ships USA, LLC.

Agreement No.: 011426-035.

Title: West Coast of South America Discussion Agreement.

Parties: Compania Chilena de Navigacion Interoceanica, S.A.; Compania Sud Americana de Vapores, S.A.; Hamburg-Süd KG; APL Co. Pte Ltd.; Seaboard Marine Ltd.; Trinity Shipping Line; Mediterranean Shipping Company, S.A.; P&O Nedlloyd B.V.; South Pacific Shipping Company, Ltd. (d/b/a Ecuadorian Line); CMA CGM, S.A.; Lykes Lines Limited, LLC; Frontier Liner Services, Inc.; and King Ocean Services Limited, Inc.

Filing Party: Wayne R. Rohde, Esq., Sher & Blackwell LLP, 1850 M Street, NW., Suite 900, Washington, DC 20036.

Synopsis: The amendment deletes A.P. Moller-Maersk A/S as a party to the agreement.

Agreement No.: 011502-004.

Title: NYK/HUAL Space Charter and Cooperative Working Agreement.

Parties: HUAL AS and Nippon Yusen Kaisha (“NYK”).

Filing Party: Wayne R. Rohde, Esq., Sher & Blackwell, 1850 M Street, NW., Suite 900, Washington, DC 20036.

Synopsis: The amendment changes the name of HUAL to Hoegh Autoliners AS, restates the agreement to reflect the name change throughout the agreement, and corrects NYK's address.

Agreement No.: 011523-004.

Title: Wallenius Wilhelmsen Lines/HUAL Space Charter Agreement.

Parties: HUAL AS and Wallenius Wilhemsen Lines AS.

Filing Party: Wayne R. Rohde, Esq., Sher & Blackwell, 1850 M Street, NW., Suite 900, Washington, DC 20036.

Synopsis: The amendment changes the name of HUAL to Hoegh Autoliners AS and restates the agreement to reflect the name change throughout the agreement.

Agreement No.: 011526-005.

Title: M.O.S.K./HUAL Space Charter Agreement.

Parties: HUAL AS and Mitsui O.S.K. Lines Ltd.

Filing Party: Wayne R. Rohde, Esq., Sher & Blackwell, 1850 M Street, NW., Suite 900, Washington, DC 20036.

Synopsis: The amendment changes the name of HUAL to Hoegh Autoliners AS and restates the agreement to reflect the name change throughout the agreement.

Agreement No.: 011692-005.

Title: Indamex Agreement.

Parties: CMA CGM, S.A.; Contship Containerlines; MacAndrews & Company Limited; Lykes Lines Limited, LLC; and The Shipping Corporation of India, Ltd.

Filing Party: Wayne R. Rohde, Esq., Sher & Blackwell, 1850 M Street, NW., Suite 900, Washington, DC 20036.

Synopsis: The amendment changes the name of Lykes Lines Limited, LLC to CP Ships USA, LLC and deletes The Shipping Corporation of India, Ltd., as a member.

Agreement No.: 011737-015.

Title: The MCA Agreement.

Parties: Atlantic Container Line AB; Alianca Navegacao e Logistica Ltda.; Antillean Marine Shipping Corporation; A.P. Moller-Maersk A/S; China Shipping Container Lines Co., Ltd.; CMA CGM S.A.; Companhia Libra de Navegacao; Compania Sud Americana de Vapores S.A.; CP Ships (UK) Limited, d/b/a ANZDL and also as Contship Containerlines; CP Ships USA LLC, d/b/a Italia Di Navigazione LLC, Lykes Lines Limited LLC, and TMM Lines Limited LLC; Crowley Liner Services, Inc.; Dole Ocean Cargo Express, Inc.; Hamburg-Süd; Hapag-Lloyd Container Linie; HUAL AS; Montemar Maritima S.A.; Norasia Container Line Limited; Safmarine Container Lines N.V.; Tropical Shipping & Construction Co., Ltd.; Wallenius Wilhelmsen Lines AS.

Filing Party: James R. Halley, Esq., Halley & Halley, P.A., 328 Crandon Boulevard, Suite 224-225, Key Biscayne, Florida 33149.

Synopsis: The amendment changes the name of HUAL to Hoegh Autoliners AS and adds P&O Nedlloyd Limited as a member.

Agreement No.: 011753-003.

Title: HUAL/EUKOR Space Charter Agreement.

Parties: HUAL AS and EUKOR Car Carriers, Inc.

Filing Party: Wayne R. Rohde, Esq., Sher & Blackwell, 1850 M Street, NW., Suite 900, Washington, DC 20036.

Synopsis: The amendment changes the name of HUAL to Hoegh Autoliners AS and restates the agreement to reflect the name change throughout the agreement.

Agreement No.: 011772-001.

Title: NMCC/HUAL Space Charter Agreement.

Parties: HUAL A/S and Nissan Motor Car Carrier Co., Ltd.

Filing Party: Wayne R. Rohde, Esq., Sher & Blackwell, 1850 M Street, NW., Suite 900, Washington, DC 20036.

Synopsis: The amendment changes the name of HUAL to Hoegh Autoliners AS and restates the agreement to reflect the name change throughout the agreement.

Agreement No.: 011776-002.

Title: Lykes/CSAV Slot Charter Agreement.

Parties: Compañia Sud Americana de Vapores S.A. and Lykes Lines Limited LLC.

Filing Party: Wayne R. Rohde, Esq., Sher & Blackwell LLP, 1850 M Street, NW., Suite 900, Washington, DC 20036.

Synopsis: The amendment changes Lykes' name to CP Ships USA, LLC, restates the agreement, and updates Article 5.4 regarding further agreements.

Agreement No.: 011821-003.

Title: MSC/CMA CGM Space Charter Agreement.

Parties: CMA CGM, S.A. (“CMA”) and Mediterranean Shipping Company, S.A. (“MSC”).

Filing Party: Paul M. Keane, Esq., Cichanowicz, Callan, Keane, Vengrow & Textor, LLP, 61 Broadway, Suite 3000, New York, NY 10006-2802.

Synopsis: The amendment reduces the geographic scope by deleting the U.S. Gulf Coast, deletes language relating to MSC's South Atlantic service, reduces CMA's allocation from 425 to 175 TEUs, and updates CMA's address.

Agreement No.: 011837-002.

Title: HUAL/EUKOR Caribbean and Central America Space Charter Agreement.

Parties: HUAL AS and EUKOR Car Carriers, Inc.

Filing Party: Wayne R. Rohde, Esq., Sher & Blackwell, 1850 M Street, NW., Suite 900, Washington, DC 20036.

Synopsis: The amendment changes the name of HUAL to Hoegh Autoliners AS and restates the agreement to reflect the name change throughout the agreement.

Agreement No.: 011850-002.

Title: CMA CGM/CSCL Cross Space Charter, Sailing and Cooperative Working Agreement—North China, Japan/USWC Loop Agreement.

Parties: China Shipping Container Lines Co., Ltd.; China Shipping Container Lines (Hong Kong) Co., Ltd.; and CMA CGM, S.A.

Filing Party: Paul M. Keane, Esq., Cichanowicz, Callan, Keane, Vengrow, & Textor, LLP, 61 Broadway, Suite 3000, New York, NY 10006-2802.

Synopsis: The amendment makes changes in the vessel capacity, port rotation, vessel provision, space allocations, and duration and termination provisions for the service. It also restates and renames the agreement.

Agreement No.: 011878-001.

Title: Lykes/MOL Slot Charter Agreement.

Parties: Lykes Lines Limited LLC and Mitsui O.S.K. Lines, Ltd.

Filing Party: Wayne R. Rohde, Esq., Sher & Blackwell LLP, 1850 M Street, NW., Suite 900, Washington, DC 20036.

Synopsis: The amendment changes Lykes' name to CP Ships USA, LLC, restates the agreement, and updates Article 5.6 regarding further agreements.

By order of the Federal Maritime Commission.
Dated: June 3, 2005.
Bryant L. VanBrakle,
Secretary.

[FR Doc. 05-11402 Filed 6-7-05; 8:45 am]

BILLING CODE 6730-01-P